NEIGHBORHOOD REINVESTMENT CORPORATION

Sunshine Act Meetings

TIME AND DATE: 2:00 p.m., Thursday, April 4, 2024.

PLACE: 1255 Union Street NE, Suite 500, Washington, DC 20002 or via Zoom.

STATUS: Parts of this meeting will be open to the public. The rest of the meeting will be closed to the public.

MATTERS TO BE CONSIDERED: Regular Board of Directors meeting.

The General Counsel of the Corporation has certified that in her opinion, one or more of the exemptions set forth in the Government in the Sunshine Act, 5 U.S.C. 552b(c)(4) permit closure of the following portion(s) of this meeting:

• Executive (Closed) Session

Agenda

I. Call to Order

II. Sunshine Act Approval of Executive (Closed) Session

III. Executive Session: FY24 Budget Discussion

IV. Discussion Item: FY24 Budget Discussion

V. Action Item: FY24 Budget

VI. Action Item: Special Delegation To Pay Monthly Health Insurance Invoices

Portions Open to the Public: Everything except the Executive (Closed) Session.

Portions Closed to the Public: Executive (Closed) Session.

CONTACT PERSON FOR MORE INFORMATION: Jenna Sylvester, Paralegal, (202) 568-2560; jsylvester@nw.org.

Jenna Sylvester,
Paralegal.

[FR Doc. 2024-08395 Filed 4-16-24; 4:15 pm]

BILLING CODE 7570-01-P